DEPARTMENT OF HOMELAND SECURITY

[Docket No. DHS-2013-0022]

President's National Security Telecommunications Advisory Committee

AGENCY: National Protection and Programs Directorate, DHS.

ACTION: Committee Management; Notice of Partially Closed Federal Advisory Committee Meeting.

SUMMARY: The President's National Security Telecommunications Advisory Committee (NSTAC) will meet on Wednesday, May 22, 2013, in Washington, DC. The meeting will be partially closed to the public.

DATES: The NSTAC will meet in a closed session on Wednesday, May 22, 2013, from 9:40 a.m. to 11:50 a.m. and in an open session on Wednesday, May 22, 2013, from 12:40 p.m. to 4:00 p.m.

ADDRESSES: The meeting will be held at the Eisenhower Executive Office Building, Washington, DC. Due to limited seating, the public portion of the meeting will be streamed via webcast at http://www.whitehouse.gov/live. For information on facilities or services for individuals with disabilities or to request special assistance at the meeting, contact nstac@dhs.gov as soon as possible. We are inviting public comment on the issues the committee will consider, as listed in the “Supplementary Information” section below. Associated briefing materials that will be discussed at the meeting will be available at www.dhs.gov/nstac for review as of May 6, 2013. Comments must be submitted in writing no later than May 13, 2013 and must be identified by DHS-2013-0022 and may be submitted by one of the following methods:

• Federal eRulemaking Portal: http://www.regulations.gov. Follow the instructions for submitting comments.

• Email: NSTAC@dhs.gov. Include the docket number in the subject line of the message.

• Fax: 703-235-4941, Attn: Helen Jackson.

• Mail: Alternate Designated Federal Officer, National Security Telecommunications Advisory Committee, National Protection and Programs Directorate, Department of Homeland Security, 245 Murray Lane, Mail Stop 0615, Arlington, VA 20598-0615.

Instructions: All submissions received must include the words “Department of Homeland Security” and the docket number for this action. Comments received will be posted without alteration at http://www.regulations.gov, including any personal information provided.

Docket: For access to the docket to read background documents or comments received by the NSTAC, go to http://www.regulations.gov.

A public comment period will be held during the open portion of the meeting on Wednesday, May 22, 2013, from 2:25 p.m. to 2:55 p.m., and speakers are requested to limit their comments to three minutes. Please note that the public comment period may end before the time indicated, following the last call for comments. Contact Helen Jackson at 703-235-5321 to register as a speaker by close of business on May 15, 2013.

FOR FURTHER INFORMATION CONTACT: Michael Echols, NSTAC Alternate Designated Federal Officer, Department of Homeland Security, telephone (703) 235-5469.

SUPPLEMENTARY INFORMATION: Notice of this meeting is given under the Federal Advisory Committee Act, 5 U.S.C. App. (Pub. L. 92-463). The NSTAC advises the President on matters related to national security and emergency preparedness (NS/EP) telecommunications policy.

Agenda: The committee will meet in open session to receive a briefing on the Federal Government's current research and development priorities as they relate to cybersecurity and NS/EP communications. Additionally, there will be a panel discussion on the nationwide public safety broadband network (NPSBN). Panelists will discuss the current implementation status of the NPSBN, including current initiatives underway with the First Network Authority Board. The NSTAC members will deliberate and vote on their report, NSTAC Report to the President on the National Security and Emergency Preparedness Implications of the Nationwide Public Safety Broadband Network, and will be briefed on the committee's progress regarding its report on secure government communications. Lastly, the NSTAC will receive feedback from the Executive Office of the President regarding the progress of the Government's implementation of NSTAC recommendations from the 2012 NSTAC Report to the President on Cloud Computing.

The committee will meet in a closed session to hear a classified briefing regarding cybersecurity threats and to discuss future studies based on Government's security priorities and perceived vulnerabilities.

Basis for Closure: In accordance with 5 U.S.C. 552b(c), Government in the Sunshine Act, it has been determined that two agenda items require closure as the disclosure of the information would not be in the public interest.

The first of these agenda items, the classified briefing, will provide members with context on nation-state capabilities and strategic threats. Such threats target national communications infrastructure and impact industry's long-term competitiveness and growth, as well as the Government's ability to mitigate threats. Disclosure of these threats would provide criminals who wish to intrude into commercial and Government networks with information on potential vulnerabilities and mitigation techniques, weakening existing cybersecurity defense tactics. This briefing will be classified at the Top Secret level, thereby exempting disclosure of the content by statute. Therefore, this portion of the meeting is required to be closed pursuant to 5 U.S.C. § 552b(c)(1)(A).

The second agenda item, the discussion of potential NSTAC study topics, will address areas of critical cybersecurity vulnerabilities and priorities for Government. Government officials will share data with NSTAC members on initiatives, assessments, and future security requirements across public and private networks. The data to be shared includes specific vulnerabilities within cyberspace that affect the nation's communications and information technology infrastructures and proposed mitigation strategies. Disclosure of this information to the public would provide criminals with an incentive to focus on these vulnerabilities to increase attacks on our cyber and communications networks. Therefore, this portion of the meeting is likely to significantly frustrate implementation of proposed DHS actions and is required to be closed pursuant to 5 U.S.C. 552b(c)(9)(B).

The FACA requires that notices of meetings of advisory committees be announced in the Federal Register 15 days prior to the meeting date. However, this notice of the NSTAC meeting is being published in the Federal Register on May 10, 2013, 12 days prior to the meeting due to the immediate need for NSTAC's members to receive a cyber-threat briefing. Notwithstanding the difficulties that delayed publication, this NSTAC meeting must occur. The national security threat that Distributed Denial of Service/Destructive Malware represent is increasing in sophistication and severity and the timing of this information is critical. Although the meeting notice was published in the Federal Register late, the agenda will be published on the DHS Web site: www.dhs.gov/nstac and an email will be sent out to the NSTAC Members.

Dated: May 8, 2013.
Michael A. Echols,
Alternate Designated Federal Officer for the NSTAC.

[FR Doc. 2013-11324 Filed 5-13-13; 8:45 am]

BILLING CODE 9110-9P-P